PACIFIC NORTHWEST ELECTRIC POWER AND CONSERVATION PLANNING COUNCIL

Proposed Amendments to Columbia River Basin Fish and Wildlife Program

AGENCY: Pacific Northwest Electric Power and Conservation Planning Council (Northwest Power and Conservation Council, Council).

ACTION: Proposed amendments to the Council's Columbia River Basin Fish and Wildlife Program.

SUMMARY: Pursuant to the Pacific Northwest Electric Power Planning and Conservation Act of 1980 (16 U.S.C. 839 et seq.), the Council invites comments through October 30, 2008, on proposed amendments to its Columbia River Basin Fish and Wildlife Program (program), Council document 2008-11. The proposed amendments may be found on the Council's Web site at http://www.nwcouncil.org/fw/program/2008amend.

Background: In November 2007, the Council formally requested recommendations for amendments to the program under section 4(h) of the Northwest Power Act. The Council received 65 sets of recommendations by the deadline of April 4, 2008, from fish and wildlife agencies, Indian tribes, and others. The recommendations and supporting information have been collected in Council document 2008-06. The Council provided notice of the amendment recommendations to interested parties and the public and asked for comments. The comments on the recommendations are collected in Council document 2008-09. The Council then based its program amendments on the amendment recommendations submitted to the Council by the deadline, data and information submitted in support of the recommendations, the comments received on the recommendations, and consultations with fish and wildlife agencies, Indian tribes, Bonneville customers, and others. The recommendations, supporting information, comments on the recommendations, and the Council's proposed program amendments (in Council document 2008-11) are all found on the Council's Web site at http://www.nwcouncil.org/fw/program/2008amend.

The Council will accept written public comment on the proposed program amendments through October 30, 2008 and will hold public hearings to take written and oral comments in Idaho, Montana, Oregon, and Washington from mid-September through mid-October. For more information on the day, time and locations for the public hearings, please see the Council's Web site at http://www.nwcouncil.org/fw/program/2008amend/hearings.htm or call the Council's Central Offices at (503) 222-5161 or (800) 452-5161. The Council may schedule additional public hearings or consultations if necessary.

The Council expects to make final decisions on the proposed amendments at the Council's meeting in Portland, Oregon, on December 9-11, 2008. At the end of this process, the Council will make findings required by the Northwest Power Act regarding any recommendations the Council rejects. The Council may adopt or reject any of these proposed amendments after it has received and reviewed public comments.

Request for Comments: You are invited to comment on the proposed program amendments by 5 p.m. on October 30, 2008. To learn how to comment, please visit the Council's Web site at http://www.nwcouncil.org/fw/program/2008amend. You may also submit comments by mail to Mark Walker, Director of Public Affairs at 851 SW. 6th Avenue, Suite 1100, Portland, Oregon 97204.

FOR FURTHER INFORMATION: For a full copy of the proposed program amendments, the amendment recommendations and comments, or for further information, please visit the Council's Web site at http://www.nwcouncil.org/fw/program/2008amend or contact the Council at (503) 222-5161 or toll free (800) 452-5161.

Stephen L. Crow,
Executive Director.

[FR Doc. E8-21508 Filed 9-12-08; 8:45 am]

BILLING CODE 7905-01-P